DEPARTMENT OF ENERGY

Federal Energy Regulatory Commission

[Project No. 13011-000; Project No. 13178-000]

Shelbyville Hydro, LLC; Prairie Power, Inc.; Notice of Competing Preliminary Permit Applications Accepted for Filing and Soliciting Comment, Motions To Intervene, and Competing Applications

August 5, 2008.

On September 7, 2007 and April 17, 2008, Shelbyville Hydro, LLC and Prairie Power, Inc. each filed a competing application, pursuant to section 4(f) of the Federal Power Act, proposing to study the feasibility of the Lake Shelbyville Projects, to be located on the Kaskaskia River in Shelby County, Illinois. The Lake Shelbyville Dam is owned by the U.S. Army Corps of Engineers.

Shelbyville Hydro, LLC's proposed project consists of: (1) A propose intake structure, (2) a proposed 189-foot-long, 108-inch-diameter steel penstock, (3) a proposed powerhouse containing one generating unit with an installed capacity of 4 megawatts, (4) a proposed 1-mile-long, 12.5 kilovolt transmission line, and (5) appurtenant facilities. The proposed project would have an average annual generation of 13 gigawatt-hours and be sold to a local utility.

Prairie Power, Inc.'s proposed project consists of: (1) A propose intake structure, (2) a proposed 332-foot-long, 12.25-foot-diameter steel penstock, (3) a proposed powerhouse containing one generating unit with an installed capacity of 8 megawatts, (4) a proposed 800-foot-long, 12.47 kilovolt transmission line, and (5) appurtenant facilities. The proposed project would have an average annual generation of 27.8 gigawatt-hours and be sold to a local utility.

Applicants Contact: Mr. Brent L. Smith, Shelbyville Hydro, LLC, P.O. Box 535, Rigby, ID 83442, phone (208) 745-0834 and Mr. John N. Dalton, Prairie Power, Inc. P.O. Box 610, Jacksonville, IL 62651-0610, phone (217) 245-6161.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13011 or P-13178) in the docket number field to access the document. For assistance, call toll-free 1-866-208-3372.

Kimberly D. Bose,
Secretary.

[FR Doc. E8-18472 Filed 8-8-08; 8:45 am]

BILLING CODE 6717-01-P